FEDERAL COMMUNICATIONS COMMISSION

47 CFR Part 73

[DA 00-2375; MM Docket No. 99-75; RM-9446]

Radio Broadcasting Services; Grants, Milan, NM

AGENCY: Federal Communications Commission.

ACTION: Final rule; reconsideration.

SUMMARY: The Commission, at the request of Against the Wind Broadcasting, Inc., licensee of Station KXXQ(FM) (formerly KQEO(FM)), Grants, New Mexico, reconsiders and sets aside the reallotment of Channel 264A from Grants to Milan, New Mexico. See 65 FR 59751 (October 6, 2000).

DATES: Effective December 11, 2000.

FOR FURTHER INFORMATION CONTACT: Victoria M. McCauley, Mass Media Bureau, (202) 418-2180.

SUPPLEMENTARY INFORMATION: This is a synopsis of the Commission's Memorandum Opinion and Order, MM Docket No. 99-75, adopted October 11, 2000, and released October 20, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334. 336.

§ 73.202 [Amended]

2. Section 73.202(b) the FM Table of Allotments under New Mexico is amended by removing Milan, Channel 264A and adding Channel 264A at Grants.

Federal Communications Commission.
John A. Karousos,
Chief, Allocations Branch, Policy and Rules Division, Mass Media Bureau.

[FR Doc. 00-28689 Filed 11-8-00; 8:45 am]

BILLING CODE 6712-01-P